ENVIRONMENTAL PROTECTION AGENCY

40 CFR Parts 1037, 1039, 1042, and 1068

DEPARTMENT OF TRANSPORTATION

National Highway Traffic Safety Administration

49 CFR Part 535

[EPA-HQ-OAR-2012-0102; NHTSA-2012-0152; FRL 9900-11-OAR]

RIN 2060-AR48; 2127-AL31

Heavy-Duty Engine and Vehicle and Nonroad Technical Amendments

Correction

In rule document 2013-19880 appearing on pages 49963 through 49967 in the issue of Friday, August 16, 2013, make the following correction.

1. On page 49965, in the second column, the equation beneath the first paragraph is corrected to read as set forth below.

§ 1037.104 Exhaust emission standards for CO2, CH4, and N2O for heavy-duty vehicles at or below 14,000 pounds GVWR [Corrected]

Force − (mass × acceleration) = F0 + F1 · (velocity) + F2 · (velocity)²

[FR Doc. C1-2013-19880 Filed 9-11-13; 8:45 am]

BILLING CODE 1505-01-D